DEPARTMENT OF THE INTERIOR

National Park Service

Notice of Boundary Amendment—Harpers Ferry National Historical Park

AGENCY: Department of the Interior, National Park Service.

ACTION: Notice of boundary amendment—Harpers Ferry National Historical Park.

SUMMARY: Notice is hereby given that the National Park Service (NPS) is amending the boundary of Harpers Ferry National Historical Park to include one additional tract of land containing 0.749 of an acre.

FOR FURTHER INFORMATION CONTACT: Chief, Land Resources Program Center, National Capital Region, National Park Service, 1100 Ohio Drive, SW., Washington, DC 20242.

SUPPLEMENTARY INFORMATION: The Act of June 30, 1944, c. 328, 58 Stat. 645 (codified as amended and supplemented, 16 U.S.C. 450bb-450bb-6), which established Harpers Ferry National Historical Park (the Park), provides the Secretary of the Interior with authority to make minor amendments in the boundary of the Park. Such boundary amendments may be made, when necessary, after advising the appropriate Congressional committees, and following publication of a revised boundary map, drawing, or other boundary description in the Federal Register.

In order to properly interpret the historic events that occurred at Harpers Ferry, West Virginia, during the Civil War, and preserve the scenic character of Harpers Ferry National Historical Park, it is necessary to revise the existing boundary to include one additional tract of land comprising approximately 0.749 of an acre. The inclusion of this tract within the boundary will increase the acreage of the Park to approximately 3,646.57 acres. The existing acreage ceiling for the Park is 3,745 acres, as set forth by Public Law 108-307, approved September 24, 2004. It is the intent of the National Park Service to purchase certain conservation easement interests in the property.

Notice is hereby given that the exterior boundary of Harpers Ferry National Historical Park is amended to include the following tract of land described as follows:

Tract Number P102-35

• “Those certain lots or parcel of real estate, situated on what is known as Bolivar Heights, and described on a plat of the subdivision made by S. Howell Brown, Surveyor of Jefferson County, with a deed from Brackett and wife and Lightner and wife to Mary G. Moore of date August 22, 1895, as follows:

Lots numbered 42, 44 and 46, in Block C and containing 0.749 acres, as shown on the plat of said lots prepared by Appalachian Surveys, Inc., dated November 14, 1988.

Being part of the same property conveyed to Scot M. Faulkner by Laurel de Aguilar, formerly known as Laurel B. Faulkner, by a deed dated June 16, 1994, and recorded among the Land Records of Jefferson County, West Virginia in Deed Book 790, Page 295.”

The above described parcel of land is subject to all restrictive covenants, conditions, easements, rights-of-way, and limitations of record.

The above described parcel of land is depicted on Harpers Ferry National Historical Park Land Status Map numbered 385/92002, Segment 102, dated January 6, 2005.

All maps and drawings referenced are on file and available for inspection in the offices of the Land Resources Program Center, National Capital Region, National Park Service, Department of the Interior, 1100 Ohio Drive, SW., Washington, DC 20242.

Dated: May 31, 2007.
Joseph M. Lawler,
Regional Director, National Capital Region.

[FR Doc. E7-15308 Filed 8-6-07; 8:45 am]

BILLING CODE 4312-JT-P